DEPARTMENT OF DEFENSE

Department of the Army; Corps of Engineers

Bossier Parish, LA, Flood Risk Management Study

AGENCY: Department of the Army, U.S. Army Corps of Engineers, DOD.

ACTION: Notice of intent.

SUMMARY: The Vicksburg District Corps of Engineers, in conjunction with the Bossier Levee District, the non-Federal sponsor, are undertaking studies to investigate possible solutions to improve the flood risk management capability of Bayou Bodcau Dam, Bossier Parish, LA.

DATES: Initiate EIS, May 13, 2008.

ADDRESSES: Correspondence may be sent to Mr. Marvin Cannon at U.S. Army Corps of Engineers, Vicksburg District, CEMVK-PP-PQ, 4155 Clay Street, Vicksburg, MS 39183-3435.

FOR FURTHER INFORMATION CONTACT: Mr. Marvin Cannon at U.S. Army Corps of Engineers, Vicksburg District, phone (601) 631-5437, fax number (601) 631-5115, or E-mail at marvin.cannon@usace.army.mil.

SUPPLEMENTARY INFORMATION: Proposed Action. A feasibility level study will identify and evaluate alternatives that would modify Bayou Bodcau Dam to address flooding problems downstream of the dam.

Alternatives. Alternatives to address flooding problems would be identified and evaluated in cooperation with state and Federal agencies, local government, and the public.

Scoping. Scoping is the process for determining the range of the alternatives and significant issues to be addressed in the EIS. For this analysis, a letter will be sent to all parties believed to have an interest in the analysis, requesting their input on alternatives and issues to be evaluated. The letter will also notify interested parties of the public scoping meeting that will be held in the local area. A notice will be sent to the local news media. All interested parties are invited to comment at this time, and anyone interested in the study should request to be included on the mailing list.

A public scoping meeting will be held June 17, 2008, from 7 p.m. to 9 p.m. at the Bossier Parish Courthouse, Police Jury Meeting Room, 204 Burt Blvd., Benton, LA.

Significant Issues. The tentative list of resources and issues to be evaluated in the EIS includes aquatic resources, fisheries and wildlife resources, timber resources, water quality, air quality, threatened or endangered species, recreation resources, and cultural resources. Tentative socio economic items to be evaluated in the EIS include residential housing and business activity, tax revenues, population, community and regional growth, transportation, and community cohesion.

Environmental Consultation and Review. The U.S. Fish and Wildlife Service (FWS) will be asked to assist in the documentation of existing conditions, impact analysis of alternatives, and overall study review through the Fish and Wildlife Coordination Act consultation procedures. The FWS would provide a Fish and Wildlife Coordination Act report to be incorporated into the EIS. The draft EIS or a notice of availability will be distributed to all interested agencies, organizations, and individuals.

Estimated Date of Availability. The earliest that the draft EIS is expected to be available is March, 2011.

Douglas J. Kamien,
Chief, Planning, Programs, and Project Management Division.

[FR Doc. E8-10286 Filed 5-7-08; 8:45 am]

BILLING CODE 3710-PU-P